DEPARTMENT OF JUSTICE

Antitrust Division

Notice Pursuant to the National Cooperative Research and Production Act of 1993—National Center for Manufacturing Sciences, Inc.

Notice is hereby given that, on July 26, 2010, pursuant to Section 6(a) of the National Cooperative Research and Production Act of 1993, 15 U.S.C. 4301 et seq. (“the Act”), National Center for Manufacturing Sciences (“NCMS”) has filed written notifications simultaneously with the Attorney General and the Federal Trade Commission disclosing changes in its membership. The notifications were filed for the purpose of extending the Act's provisions limiting the recovery of antitrust plaintiffs to actual damages under specified circumstances. Specifically, 3M Company, Washington, DC; Accio Energy, Inc., Ann Arbor, MI; adapt laser systems, LLC, Kansas City, MO; Analysis, Integration & Design, Inc., Melbourne, FL; ARC Technology Solutions, LLC, Nashua, NH; EAK Systems, San Diego, CA; Betis Group, Inc., Arlington, VA; Claxton Logistics Services, LLC, Stafford, VA; Clemson University, Greenville, SC; Concurrent Technologies, Johnstown, PA; Connecticut Center for Advanced Technology, Inc. (CCAT), East Hartford, CT; Diamond Nets Inc., Everson, WA; Eastern Instrumentation of Philadelphia, Morristown, NJ; George Washington University, Washington, DC; Geotest Marvin Test Systems, Inc., Irvine, CA; Gravikor, Inc., Ann Arbor, MI; GSA Service Company, Sterling, VA; Guerrero Professional Services d/b/a Dr. Diesel Technologies, Temecula, CA; Kitsap Economic Development Alliance, Bremerton, WA; Messier-Dowty, Inc., Ajax, Ontario, CANADA; Milspray Military Technologies, Lakewood, NJ; One Network Enterprises, Inc., Dallas, TX; Packer Engineering, Inc., Naperville, IL; PDQ Precision Inc., National City, CA; Pendaran Inc., Ann Arbor, MI; Plasan Carbon Composites, Bennington, VT; The POM Group, Inc., Auburn Hills, MI; Pratt & Miller Engineering and Fabrication, Inc., New Hudson, MI; Seica Inc., Salem, NH; SenGenuity, Hudson, NH; SpaceForm Welding Solutions Inc., Madison Heights, MI; StandardAero Redesign Services, Inc., San Antonio, TX; and Technical Objectives Professionals, LLC (TOP Inc.), Kasson, MN, have been added as parties to this venture.

Also, Agie Charmilles, Lincolnshire, IL; Ahura Scientific, Inc., Wilmington, MA; America's Phenix, Washington, DC; Analex Corporation, Fairfax, VA; Ben Franklin Technology Partners, Pittsburgh, PA; Chromalloy Gas Turbine Corporation, Ft. Walton Beach, FL; Clean Diesel Technologies, Inc., Stamford, CT; Delphi Automotive Systems Corporation, Troy, MI; Durr Environmental, Inc., Plymouth, MI; Electrical-Mechanical Associates, Inc., Ann Arbor, MI; The Euclid Chemical Company, Cleveland, OH; Flow International Corporation, Kent, WA; Four Rivers Associates, Mequon, WI; Goodrich, Fuel & Utility Systems, Vergennes, VT; Oxonica plc, Mountain View, CA; R. Morley Inc., Milford, NH; Renaissance Services Inc., Springfield, OH; Rolls-Royce Corporation, Indianapolis, IN; Sound & Sea Technology, Inc., Edmonds, WA; University of Michigan, Ann Arbor, MI; Vision Solutions International, Ann Arbor, MI; and Vought Aircraft Industries, Inc., Dallas, TX, have withdrawn as parties to this venture.

No other changes have been made in either the membership or planned activity of the group research project. Membership in this group research project remains open, and NCMS intends to file additional written notifications disclosing all changes in membership.

On February 20, 1987, NCMS filed its original notification pursuant to Section 6(a) of the Act. The Department of Justice published a notice in the Federal Register pursuant to section 6(b) of the Act on March 17, 1987 (52 FR 8375). The last notification was filed with the Department on September 24, 2009. A notice was published in the Federal Register pursuant to section 6(b) of the Act on November 30, 2009 (75 FR 62600).

Patricia A. Brink,
Deputy Director of Operations, Antitrust Division.

[FR Doc. 2010-22220 Filed 9-7-10; 8:45 am]

BILLING CODE 4410-11-M